DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 16, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

Applicant: Hawthorn Corporation, Grayslake, IL.

The applicant requests permits to export captive-born tigers (Panthera tigris) to worldwide locations for the purpose of enhancement of the species through conservation education. This notification covers the import of any potential progeny born while overseas. The permit numbers are 068349, Rook; 068350, Segal; 068351, Rajee; 068352, Kali; 068353, Pashawn; 068354, Maja; 068355, Sjiba; and 068356, Ice. This notification covers activities conducted by the applicant over a three years period.

PRT-066160

Applicant: Hawthorn Corporation, Grayslake, IL

The applicant requests a permit to export three captive-born tigers (Panthera tigris) to the Ouwehands Zoo, Rhenen, the Netherlands for the purpose of enhancement of the species through conservation education.

PRT-810465

Applicant: A.R. Galloway Exotic Ranch, Pearsall, TX

The applicant requests renewal of a permit to authorize interstate and foreign commerce, export, and cull of excess male barasingha (Cervus duvauceli) and Eld's deer (Cervus eldi) from their captive herd for the purpose of enhancement of the survival of the species. This notification covers activities conducted by the applicant over a five year period. Permittee must apply for renewal annually.

PRT-067307

Applicant: Shark Reef at Mandalay Bay, Las Vegas, NV

The applicant requests a permit to authorize the transfer in interstate commerce of three sub-adult, captive-bred Komodo monitors (Varanus komodensis) from the Miami Metrozoo, Miami, Florida, for the purpose of conservation education and enhancement of the survival of the species.

PRT-067128

Applicant: Smithsonian Institution, Washington, DC

The applicant requests a permit to import biological samples collected from maned wolves (Chrysocyon brachyurus) in Noel Kempff Mercado National Park, Bolivia for the purpose of scientific research to aid species conservation. This notification covers activities conducted by the applicant over a five year period. Permittee must apply for renewal annually.

PRT-001904

Applicant: U.S. Fish and Wildlife Service, Mexican Wolf Reintroduction Project, Region 2, Albuquerque, NM

The applicant requests renewal of a permit to import, export and reexport live Mexican or lobo wolves (Canis lupus baileyi) for breeding and reintroduction and to import biological samples for genetic studies for the enhancement of the propagation or survival of the species. This notification covers activities conducted by the applicant over a five year period.

Marine Mammals

The public is invited to comment on the following applications for a permit to conduct certain activities with marine mammals. The applications were submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

PRT-067925

Applicant: Alaska Science Center, USGS, Anchorage, AK

Permit Type: Take and import.

Name and Number of Animals: Enhydra lutris nereis, 20; Enhydra lutris lutris, 150.

Summary of Activity to be Authorized: The applicant requests a permit for scientific research to conduct take activities with sea otters in California and Alaska and to import biological samples from sea otters in Russia, Canada, and Japan in order to assess the population status and health of sea otters.

Source of Marine Mammals: Central California coast; Alaska; Russia, Canada, and Japan.

Period of Activity: Up to 5 years.

Concurrent with the publication of this notice in the Federal Register, the Division of Management Authority is forwarding copies of the above applications to the Marine Mammal Commission and the Committee of Scientific Advisors for their review.

PRT-068430

Applicant: Arnold Goldschlager, Hillsborough, CA

The applicant requests a permit to import a polar bear (Ursus maritimus) sport hunted from the Southern Beaufort Sea polar bear population in Canada for personal use.

The U.S. Fish and Wildlife Service has information collection approval from OMB through March 31, 2004, OMB Control Number 1018-0093. Federal agencies may not conduct or sponsor and a person is not required to respond to a collection of information unless it displays a current valid OMB control number.

February 28, 2003.
Michael S. Moore,
Senior Permit Biologist, Branch of Permits, Division of Management Authority.

[FR Doc. 03-6318 Filed 3-14-03; 8:45 am]

BILLING CODE 4310-55-P